DEPARTMENT OF TRANSPORTATION

Federal Railroad Administration

[Docket Number FRA-2011-0055]

Notice of Public Hearing

The Marquette Rail, LLC (MQT), by a May 23, 2011, document, has petitioned the Federal Railroad Administration (FRA) seeking the approval of a Product Safety Plan for the Railsoft TrackAccess System submitted pursuant to Title 49 Code of Federal Regulations (CFR) Section 236.907. The TrackAccess System is a processor-based dispatch system developed to be operated in the autonomous mode (without dispatcher intervention) for low-density lines.

This proceeding is identified as Docket Number FRA-2011-0055. A copy of MQT's full petition is available for review online at http://www.regulations.gov.

FRA has conducted a field investigation in this matter and has issued a public notice seeking comments from interested parties (See 76 FR 48941 (August 9, 2011)). After examining the carrier's proposal and the available facts, and comments received from American Train Dispatchers Association; Brotherhood of Locomotive Engineers and Trainmen; Brotherhood of Maintenance of Way Employees Division; Brotherhood of Railroad Signalmen; and Railsoft Systems, Inc., FRA has determined that a public hearing is necessary before a final decision is made on this proposal. Accordingly, FRA invites all interested persons to participate in a public hearing on December 13, 2011. The hearing will be conducted at the Holiday Inn Express, 5323 West U.S. Highway 10, Ludington, Michigan 49431. The hearing will begin at 9 a.m. Interested parties are invited to present oral statements at the hearing. For information on facilities or services for persons with disabilities or to request special assistance at the hearing, contact FRA's Docket Clerk, Jerome Melis-Tull, by telephone, email, or in writing, at least 5 business days before the date of the hearing. Mr. Melis-Tull's contact information is as follows: FRA, Office of Chief Counsel, Mail Stop 10, 1200 New Jersey Avenue SE., Washington, DC 20590; telephone: (202) 493-6058; email: Jerome.Melis-Tull@dot.gov.

The hearing will be informal and conducted in accordance with Rule 25 of the FRA Rules of Practice (49 CFR 211.25) by a representative designated by FRA. The hearing will be a non-adversarial proceeding; therefore, there will be no cross-examination of persons presenting statements. An FRA representative will make an opening statement outlining the scope of the hearing. After all initial statements have been completed, those persons wishing to make brief rebuttal statements will be given the opportunity to do so in the same order in which they made their initial statements. Additional procedures, if necessary for the conduct of the hearing, will be announced at the hearing.

Issued in Washington, DC, on October 28, 2011.
Robert C. Lauby,
Deputy Associate Administrator for Regulatory and Legislative Operations.

[FR Doc. 2011-28453 Filed 11-2-11; 8:45 am]

BILLING CODE 4910-06-P